DEPARTMENT OF HEALTH AND HUMAN SERVICES

National Institutes of Health

Office of Biotechnology Activities, Office of Science Policy, Office of the Director; Notice of Meeting

Pursuant to section 10(a) of the Federal Advisory Committee Act, as amended (5 U.S.C. App.), notice is hereby given of the meeting of the National Science Advisory Board for Biosecurity (NSABB).

Under authority 42 U.S.C. 217a, Section 222 of the Public Health Service Act, as amended, the Department of Health and Human Services established NSABB to provide advice, guidance and leadership regarding federal oversight of dual use research, defined as biological research with legitimate scientific purposes that could be misused to pose a biological threat to public health and/or national security.

The meeting will be open to the public, however pre-registration is strongly recommended due to space limitations. Persons planning to attend should register online at http://www.biosecurityboard.gov or by calling Capital Consulting Corporation (Contact: Saundra Bromberg at 301-468-6004, ext. 406). Individuals who plan to attend and need special assistance, such as sign language interpretation or other reasonable accommodations, should indicate these requirements upon registration.

Name of Committee: National Science Advisory Board for Biosecurity.

Date: April 29, 2009.

Open: 8:30 a.m. to 5 p.m.

Agenda: Presentations and discussions regarding: (1) Strategies for a personnel reliability program for individuals with access to Select Agents and Toxins; (2) overview of Public Consultation meeting on April 3, 2009 on proposed optimal characteristics of individuals with access to Select Agents; (3) public comments; and (4) other business of the Board.

Place: National Institutes of Health, Building 1, Wilson Hall, Bethesda, Maryland 20892.

Contact Person: Ronna Hill, NSABB Program Assistant, 6705 Rockledge Drive, Bethesda, Maryland 20892, (301)-496-9838.

This meeting will also be Web cast. The draft meeting agenda and other information about NSABB, including information about access to the Web cast and pre-registration, will be available at http://www.biosecurityboard.gov Please check this Web site for updates. Times are approximate and subject to change.

Any member of the public interested in presenting oral comments at the meeting may notify the Contact Person listed on this notice at least 10 days in advance of the meeting. Interested individuals and representatives of an organization may submit a letter of intent, a brief description of the organization represented and a short description of the oral presentation. Only one representative of an organization may be allowed to present oral comments. Both printed and electronic copies are requested for the record. In addition, any interested person may file written comments with the committee. All written comments must be received by April 20, 2009 and should be sent via e-mail to nsabb@od.nih.gov with “NSABB Public Comment” as the subject line or by regular mail to 6705 Rockledge Drive, Suite 750, Bethesda, MD 20892, Attention: Ronna Hill. The statement should include the name, address, telephone number and, when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: March 25, 2009.
Jennifer Spaeth,
Director, Office of Federal Advisory Committee Policy.

[FR Doc. E9-7199 Filed 4-1-09; 8:45 am]

BILLING CODE 4140-01-P